DEPARTMENT OF ENERGY

Federal Energy Regulatory Commission

[Project No. 175-032]

Pacific Gas and Electric Company; Notice Soliciting Scoping Comments

Take notice that the following application has been filed with the Commission and is available for public inspection.

a. Type of Application: New Major License.

b. Project No.: P-175-032.

c. Date Filed: April 18, 2024.

d. Applicant: Pacific Gas and Electric Company (PG&E).

e. Name of Project: Balch Hydroelectric Project (Balch Project or project).

f. Location: The existing project is located about 45 miles northeast of the city of Fresno, on the North Fork Kings River, in Fresno and Madera Counties, California (Figure 1). The project currently occupies 491.5 acres of Federal land administered by the U.S. Forest Service (Forest Service).

g. Filed Pursuant to: Federal Power Act 16 U.S.C. 791(a)-825(r).

h. Applicant Contact: Mr. Dave Gabbard, Vice President Power Generation, Pacific Gas and Electric Company, 300 Lakeside Drive, Oakland, CA 94612; telephone at (650) 207-9705; email at David.gabbard@pge.com.

i. FERC Contact: Benjamin Mann, (202) 502-8462, or email at Benjamin.Mann@ferc.gov.

j. Deadline for filing scoping comments: January 12, 2025.¹

¹ If the due date falls on a weekend or holiday, the due date is the following business day.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Balch Hydroelectric Project (P-175-032).

k. This application is not ready for environmental analysis at this time.

l. Project Description: The existing Balch Hydroelectric Project (project) includes the following facilities: (1) a 135-foot-high, 396-foot-long diversion dam with a crest elevation of 4,098 feet that includes a 364-foot-long spillway and is located on the North Fork Kings River 9.9 miles upstream of the confluence with Kings River; (2) the 35-acre Black Rock Reservoir with a usable storage capacity of 1,260 acre-feet at a normal water surface elevation of 4,097 feet; (3) an 11-foot-high, concrete tunnel intake; (4) a water conveyance system consisting of: (a) a 19,336-foot-long tunnel with a maximum hydraulic capacity of 760 cubic feet per second (cfs) that includes the 308-foot-long Black Rock Adit, the 350-foot-long Weir Creek Adit, an unlined surge chamber, and two sluice channels; (5) a 4,905.6-foot-long penstock leading to the Balch No. 1 Powerhouse and a 4,933.3-foot-long penstock leading to the Balch No. 2 Powerhouse; (6) the 65.5-foot-long, 80.5-foot-wide Balch No. 1 Powerhouse housing one turbine-generator unit with an authorized installed capacity of 31.02 megawatts (MW) and a maximum hydraulic capacity of 213 cfs; (7) the 149-foot-long, 84-foot-wide Balch No. 2 Powerhouse housing two turbine-generator units with a total authorized installed capacity of 105 MW and a maximum hydraulic capacity of 315 cfs; (8) a 165-foot-high, 238-foot-long afterbay dam with a crest elevation of 1,704 feet that includes a 238-foot-long spillway; (9) a 7-acre afterbay with a usable storage capacity of 135 acre-feet; (10) project roads and trails; (11) recreation facilities; (12) a 22-mile-long, 115-kilovolt (kV) transmission line connecting the project with the grid at Piedra Junction; (13) the 76-acre Balch Camp, which is the project operating headquarters and includes personnel housing; (14) a 6.2-mile-line, 12-kV distribution line connecting Balch Camp with the project's diversion dam; and (15) appurtenant facilities.

The Balch Project is located downstream of PG&E's Haas-Kings River Hydroelectric Project No. 1988 and Helms Pumped Storage Project No. 2735, which use the same reservoirs (Courtright Lake and Lake Wishon) for operation. The project is operated as a peaking facility to generate power that is released from upstream storage to meet power demand and for irrigation purposes. Project operation is coordinated with Project No. 1988, whose releases from Lake Wishon largely control inflow to Black Rock Reservoir; however, spill fluctuations at the project are possible at times when inflow exceeds powerhouse capacity and during powerhouse outages.

The current license requires PG&E to maintain the following continuous minimum flows in the North Kings River: (1) during normal water years: (a) from June 1 through November 31, 5 cfs from Black Rock Reservoir, 15 cfs from Balch Afterbay, and 30 cfs of total river flow; and (b) from December 1 through May 31, 2.5 cfs from Black Rock Reservoir, 10 cfs from Balch Afterbay, and 30 cfs of total river flow; (2) during dry water years, as defined by the California Department of Water Resources, year-round flows of 2.5 cfs from Black Rock Reservoir, 10 cfs from Balch Afterbay, and 20 cfs of total river flow.

PG&E proposes to continue operating the project in a manner that is consistent with current operation, with the exception of the following new proposed measures: (1) minimum flows and water year types, (2) a recreation plan, (3) a biological resources management plan, (4) a historic properties management plan, (5) low-level operations, (6) flood period operations, (7) a hazardous substance plan, (8) a gaging plan, (9) visual resources management, (10) a fire management and response plan, and (11) a transportation system management plan.

m. A copy of the application can be viewed on the Commission's website at https://www.ferc.gov using the “eLibrary” link. Enter the docket number excluding the last three digits in the docket number field to access the document (P-175). For assistance, please contact FERC Online Support (see item j above).

You may also register at https://ferconline.ferc.gov/FERCOnline.aspx to be notified via email of new filings and issuances related to this or other pending projects. For assistance, please contact FERC Online Support (see item j above).

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued December 13, 2024.

Copies of SD1, which outlines the subject areas to be addressed in the NEPA document, were distributed to the parties on the Commission's mailing list and the applicant's distribution list. Copies of SD1 may be viewed on the web at https://www.ferc.gov using the “eLibrary” link. Follow the directions for accessing information in paragraph m.

Dated: December 13, 2024.
Debbie-Anne A. Reese,
Secretary.

[FR Doc. 2024-30277 Filed 12-18-24; 8:45 am]

BILLING CODE 6717-01-P